NUCLEAR REGULATORY COMMISSION

[NRC-2015-0149]

Fuel Cycle Oversight Process

AGENCY: Nuclear Regulatory Commission.

ACTION: Draft technical document; request for comment.

SUMMARY: The U.S. Nuclear Regulatory Commission (NRC) is soliciting public comment on a draft cornerstone technical document that will be used as a portion of a future revision to its Fuel Cycle Oversight Process.

DATES: Comments may be submitted by July 13, 2015. Comments received after this date will be considered, if it is practical to do so, but the NRC staff is able to ensure consideration only for comments received on or before this date.

ADDRESSES: You may submit comments by any of the following methods (unless this document describes a different method for submitting comments on a specific subject):

• Federal Rulemaking Web site: Go to http://www.regulations.gov and search for Docket ID NRC-2015-XXXX. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: April Smith, Office of Nuclear Material Safety and Safeguards, U.S. Nuclear Regulatory Commission, Washington, DC 20555-0001; telephone: 301-415-6547; email: April.Smith@nrc.gov.

SUPPLEMENTARY INFORMATION:

I. Obtaining Information and Submitting Comments

A. Obtaining Information

Please refer to Docket ID NRC-2015-0149 when contacting the NRC about the availability of information regarding this document. You may obtain publicly-available information related to this document by any of the following methods:

• Federal Rulemaking Web site: Go to http://www.regulations.gov and search for Docket ID NRC-2015-0149.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section. The draft cornerstone technical document is available in ADAMS under Accession No. ML15140A644.

• NRC's PDR: You may examine and purchase copies of public documents at the NRC's PDR, Room O1-F21, One White Flint North, 11555 Rockville Pike, Rockville, Maryland 20852.

B. Submitting Comments

Please include Docket ID NRC-2015-0149 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

In the Staff Requirements Memorandum for SECY-11-0140, “Enhancements to the Fuel Cycle Oversight Process,” dated January 5, 2012 (ADAMS Accession No. ML120050322), the Commission directed the NRC staff to develop a Revised Fuel Cycle Oversight Process (RFCOP). A portion of the RFCOP is the identification of cornerstones. The cornerstones are those aspects of licensee performance that are important to the mission and, therefore, merit regulatory oversight. The draft cornerstone technical document defines the cornerstones that will be used in the RFCOP and defines for each cornerstone, its objective and key attributes that implement the objective. Each key attribute has one or more inspectable areas. Inspectable areas are those aspects of the physical facility or the licensee's programs or processes that need to be verified to assure that a key attribute of a cornerstone is achieved.

The NRC is soliciting public comment on its draft cornerstone technical document that will be used as a portion of the RFCOP. The NRC staff will consider any public comments prior to finalizing the cornerstone technical document for the RFCOP.

Dated at Rockville, Maryland, this 4th day of June 2015.
For the Nuclear Regulatory Commission.
Marissa Bailey,
Director, Division of Fuel Cycle Safety, Safeguards and Environmental Review, Office of Nuclear Material Safety and Safeguards.

[FR Doc. 2015-14288 Filed 6-10-15; 8:45 am]

BILLING CODE 7590-01-P